DEPARTMENT OF HEALTH AND HUMAN SERVICES

National Institutes of Health

Office of the Director, National Institutes of Health; Notice of Meeting

Notice is hereby given of a meeting of the Big Data to Knowledge Multi-Council Working Group.

The teleconference meeting will be open to the public as indicated below. Individuals who plan to attend and need special assistance should notify the contact person listed below in advance of the meeting. No physical meeting location is provided for any interested individuals to listen to committee discussions. Any individual interested in listening to the meeting discussions must call: 1-877-668-4493 and use Passcode: 627 298 875 for access to the meeting.

Name of Working Group: Big Data to Knowledge Multi-Council Working Group.

Date: January 9, 2017.

Open Session: 11:00 a.m.-12:00 p.m. EST.

Agenda: Discussion will review current Big Data to Knowledge (BD2K) activities and newly proposed BD2K initiatives.

Open Session Presentations: ADDS Updates—“State of BD2K”. All-Hands Meeting and Open Data Science Symposium Recap.

Place: Teleconference.

Closed Session: 12:30 p.m.-3:30 p.m. EST.

Agenda: Discussion will focus on review of proposed Funding Plans for BD2K Funding Opportunity Announcements.

Place: Teleconference.

Contact Person: Tonya Scott, Building 1, Room 325, 1 Center Drive, Bethesda, MD 20814-0174, email: tonya.scott@nih.gov, Telephone: 301-402-9817.

Information is also available on the Office of the Associate Director for Data Science's home page: https://datascience.nih.gov/index where an agenda and any additional information for the meeting will be posted when available.

Dated: December 12, 2016.
Anna Snouffer,
Deputy Director, Office of Federal Advisory Committee Policy.

[FR Doc. 2016-30358 Filed 12-16-16; 8:45 am]

BILLING CODE 4140-01-P